DEPARTMENT OF DEFENSE

Department of the Navy

[Docket ID: USN-2016-HQ-0005]

Proposed Collection; Comment Request

AGENCY: Commander Navy Installation Command, DoD.

ACTION: Notice.

SUMMARY: In compliance with the Paperwork Reduction Act of 1995, the Commander Navy Installation Command (CNIC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 5, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Commander Navy Installations Command, 716 Sicard Street SE., Suite 1000, Washington Navy Yard, DC 20374-5140, or call the Family Readiness Lead at 202-433-3165.

SUPPLEMENTARY INFORMATION:

Title; Associated Form; and OMB Number: Navy Ombudsman Registry; DD Form 2793; OMB 0703-XXXX.

Needs and Uses: The information collection requirement is necessary to identify all Navy ombudsmen; provide them with program information; communicate during natural disasters and crisis; collect program contact numbers and workload data; and maintain records of program training received. Numbers provided from the collection help identify the issues and concern of the families, trends during deployment and identify training which may be beneficial to the command families.

Affected Public: Individuals or Households.

Annual Burden Hours: 1,050.

Number of Respondents: 2,100.

Responses per Respondent: 1.

Annual Responses: 2,100.

Average Burden per Response: 30 minutes.

Frequency: Monthly, Quarterly, and on Occasion.

Respondents are the spouses of active duty members of the command or selected reserves of the command. They may also be the parent or family member of a single service member or retired service members of the command that meet certain requirements. The information obtained from the worksheets assists CNIC in identifying resources and/or trainings to assist ombudsmen in supporting and maintaining family readiness, which enables commands to focus on mission readiness. Statistics provided from collection shows commanding officers the issues and concerns of command families, trends during deployment versus non-deployment periods, and training which may be beneficial to the command and families. The worksheet information shows Navy leadership the cost avoidance benefit to the Navy for having ombudsmen perform the types of services that they deliver.

Dated: October 3, 2016.
Aaron Siegel,
Alternate OSD Federal Register Liaison Officer, Department of Defense.

[FR Doc. 2016-24188 Filed 10-5-16; 8:45 am]

BILLING CODE 5001-06-P